DEPARTMENT OF LABOR

Office of the Secretary

29 CFR Part 11

Wage and Hour Division

29 CFR Parts 500, 501, 516, 519, 531, 536, 547, 548, 549, 550, 552, and 570

Mine Safety and Health Administration

30 CFR Parts 28, 48, 50, 56, 57, 70, 71, 72, 75, 77, and 90

Department of Labor Regulatory Review and Update

AGENCY: Office of the Secretary, Wage and Hour Division, Mine Safety and Health Administration, Labor.

ACTION: Final rule; technical amendments.

SUMMARY: The Department of Labor (DOL) is amending existing regulations to update obsolete non-substantive or nomenclature references in the Code of Federal Regulations (CFR). This action is intended to improve the accuracy of the agency's regulations and does not impose any new regulatory or technical requirements. DOL is also publishing concurrently a separate rule amending existing Occupational Safety and Health Administration regulations to update obsolete non-substantive references.

EFFECTIVE DATE: April 3, 2006.

FOR FURTHER INFORMATION CONTACT: Sheila McConnell, U.S. Department of Labor, Room S-2312, 200 Constitution Avenue, NW., Washington DC 20210, Telephone (202) 693-5959.

Supplementary Information: DOL's strategic outcome goal 4.2 measures the agency's success in creating a regulatory structure that promotes compliance flexibility and reduces regulatory burden. As part of this strategic goal, DOL is conducting an ongoing review of its regulations governing labor standards, pensions, health care, and worker safety to ensure that these references in the CFR are accurate, current and reflect recent statutory amendments.

Updates to the CFR that relate to statutory amendments include the Wage and Hour Division's Fair Labor Standards Act regulations for the exemptions for agricultural employees employed within the “area of production” and by “country elevators,” 29 CFR Part 536. Enacted originally as complete exemptions from both minimum wage and overtime, sections of the law were later amended to repeal and replace the original exemptions with an exemption from overtime only. Revisions are therefore being made to delete the regulatory sections that implemented the provisions of law that have since been repealed and to correct citations to current provisions of law.

In addition, several sections of regulations of the Wage and Hour Division, entitled “Petition for amendment of regulations,” were originally adopted as initial implementing regulations in 1938 and provided for interested persons to petition the Wage and Hour Administrator for desired changes in the regulations. The substance of these sections has been superseded and supplanted by enactment of the Administrative Procedure Act, 5 U.S.C. 553(e), and the sections are therefore deleted as unnecessary.

Publication of this document constitutes final action on these changes under the Administrative Procedure Act (5 U.S.C. 553). Notice of Proposed Rulemaking is unnecessary since the agency is merely updating non-substantive and nomenclature references.

Executive Order 12866

This rule has been drafted and reviewed in accordance with Executive Order 12866, section 1(b), Principles of Regulations. The agency has determined that this rule is not a “significant regulatory action” under Executive Order 12866, section 3(f), Regulatory Planning and Review. Accordingly, there is no requirement for an assessment of potential costs and benefits under section 6(a)(3) of that order.

Regulatory Flexibility Act

Because no notice of proposed rulemaking is required for this rule under section 553(b) of the Administrative Procedure Act (APA), the requirements of the Regulatory Flexibility Act (5 U.S.C. 601) pertaining to regulatory flexibility do not apply to this rule. See 5 U.S.C. 601(2).

Paperwork Reduction Act

This final rule is not subject to section 350(h) of the Paperwork Reduction Act (44 U.S.C. 3501) since it does not contain any new collection of information requirements.

Publication in Final

The Department has determined that these amendments need not be published as a proposed rule, pursuant to 5 U.S.C. 553(b)(A), since several of these changes are interpretive, procedural in nature, or relate to agency organization. Because this final rule does not make substantive amendments, the Department of Labor has determined that delaying the effective date of the rule is unnecessary, and good cause exists under 5 U.S.C. 553(b)(B) to make this rule effective immediately upon publication in the Federal Register.

Small Business Regulatory Enforcement Fairness Act of 1996

This rule is not classified as a “rule” under Chapter 8 of the Small Business Regulatory Enforcement Fairness Act of 1996, because it is a rule pertaining to agency organization, procedure, or practice that does not substantially affect the rights or obligations of non-agency parties. See 5 U.S.C. 804(3)(C).

List of Subjects

29 CFR Part 11

Environmental impact statements.

29 CFR Part 500

Administrative practice and procedure, Aliens, Housing, Insurance, Intergovernmental relations, Investigations, Migrant labor, Motor vehicle safety, Occupational safety and health, Reporting and recordkeeping Requirements, Wages, Whistleblowing.

29 CFR Part 501

Administrative practice and procedure, Aliens, Employment, Health professions, Penalties, Reporting and recordkeeping requirements, Wages.

29 CFR Part 516

Minimum wages, Reporting and recordkeeping requirements, Wages.

29 CFR Part 519

Agriculture, Colleges and universities, Minimum wages, Reporting and recordkeeping requirements, Students.

29 CFR Part 531

Wages.

29 CFR Part 536

Agriculture, Wages.

29 CFR Part 547

Employee benefit plans, Reporting and recordkeeping requirements.

29 CFR Part 548

Wages.

29 CFR Part 549

Employee benefit plans, Reporting and recordkeeping requirements, Trusts and trustees.

29 CFR Part 550

Radio, Television, Wages.

29 CFR Part 552

Minimum wages, Reporting and recordkeeping requirements.

29 CFR Part 570

Administrative practice and procedures, Agriculture, Child labor, Intergovernmental relations, Occupational safety and health, Reporting and recordkeeping.

30 CFR Part 28

Mine safety and health, Research.

30 CFR Part 48

Education, Mine safety and health, Reporting and recordkeeping requirements.

30 CFR Part 50

Investigations, Mine safety and health, Reporting and recordkeeping requirements.

30 CFR Part 56

Chemicals, Electric power, Explosives, Fire prevention, Hazardous substances, Metals, Mine safety and health, Noise control, Reporting and recordkeeping requirements.

30 CFR Part 57

Chemicals, Electric power, Explosives, Fire prevention, Gases, Hazardous substances, Metals, Mine safety and health, Noise control, Radiation protection, Reporting and recordkeeping requirements.

30 CFR Part 70

Mine safety and health, Noise control, Reporting and recordkeeping requirements.

30 CFR Part 71

Hazardous substances, Mine safety and health, Noise control, Reporting and recordkeeping requirements, Water supply.

30 CFR Part 72

Coal, Mine safety and health.

30 CFR Part 75

Communications equipment, Electric power, Emergency medical services, Explosives, Fire prevention, Mine safety and health, Reporting and recordkeeping requirements.

30 CFR Part 77

Communications equipment, Electric power, Emergency medical services, Explosives, Fire prevention, Mine safety and health, Reporting and recordkeeping requirements.

30 CFR Part 90

Black lung benefits, Mine safety and health, Reporting and recordkeeping requirements.

For the reasons set forth in the preamble, DOL amends parts 11, 500, 501, 516, 519, 531, 536, 547, 548, 549, 550, 552, and 570, of title 29, and parts 28, 48, 50, 56, 57, 70, 71, 72, 75, 77 and 90 of title 30, Code of Federal Regulations, as follows:

Title 29

PART 11—DEPARTMENT OF LABOR NATIONAL ENVIRONMENTAL POLICY ACT (NEPA) COMPLIANCE PROCEDURES

1. The authority citation for 29 CFR Part 11 continues to read as follows:

Authority: NEPA, 42 U.S.C. 4321; Executive Order 11514, as amended by Executive Order 11991.

§ 11.3 [Amended]

2. Section 11.3 is amended in paragraph (a) introductory text by removing the words “Assistant Secretary of Labor for Policy, Evaluation and Research (ASPER)” and adding, in their place, the words “Assistant Secretary for Policy”.

PART 500—MIGRANT AND SEASONAL AGRICULTURAL WORKER PROTECTION ACT

3. The authority citation for 29 CFR Part 500 continues to read as follows:

Authority: Pub. L. 97-470, 96 Stat. 2583 (29 U.S.C. 1801-1872); Secretary's Order No. 4-2001, 66 FR 29656.

§ 500.212 [Amended]

4. Section 500.212 is amended in paragraph (a) by removing “§ 500.212” and adding, in its place, “§ 500.210”.

PART 501—ENFORCEMENT OF CONTRACTUAL OBLIGATIONS FOR TEMPORARY ALIEN AGRICULTURAL WORKERS ADMITTED UNDER SECTION 216 OF THE IMMIGRATION AND NATIONALITY ACT

5. The authority citation for 29 CFR Part 501 continues to read as follows:

Authority: 8 U.S.C. 1101(a)(15)(H)(ii)(a), 1184(c), and 1186.

§ 501.33 [Amended]

6. Section 501.33 is amended as follows:

A. In paragraph (a) remove the words “Administrator of the Wage and Hour Division, Employment Standards Administration, U.S. Department of Labor, 200 Constitution Avenue, NW., Washington, DC 20210” and add, in its place, “official who issued the determination, at the Wage and Hour Division address appearing on the determination notice”; and,

B. In paragraph (c) remove the words “Administrator at the above address,” and add, in their place, “official who issued the determination, at the Wage and Hour Division address appearing on the determination notice”.

PART 516—RECORDS TO BE KEPT BY EMPLOYERS

7-8. The authority citation for 29 CFR Part 516 continues to read as follows:

Authority: Sec. 11, 52 Stat. 1066, as amended, 29 U.S.C. 211. Section 516.33 also issued under 52 Stat. 1060, as amended; 29 U.S.C. 201, et seq. Section 516.34 also issued under Sec. 7, 103 Stat. 944, 29 U.S.C. 207(q).

9. Section 516.0 is amended by adding the following OMB control number entry in numerical order to read as follows:

§ 516.0 Display of OMB control numbers.

Subpart or section where information collection requirement is located | Currently assigned OMB control No.
* * * * *
516.34 | 1215.0175

PART 519—EMPLOYMENT OF FULL-TIME STUDENTS AT SUBMINIMUM WAGES

10. The authority citation for 29 CFR Part 519 continues to read as follows:

Authority: Secs. 11 and 14, 52 Stat. 1068; sec. 11, 75 Stat. 74; secs. 501 and 602, 80 Stat. 843, 844 (29 U.S.C. 211, 214).

§ 519.10 [Removed]

11. Section 519.10 is removed.

§ 519.20 [Removed]

12. Section 519.20 is removed.

PART 531—WAGE PAYMENTS UNDER THE FAIR LABOR STANDARDS ACT OF 1938

13. The authority citation for 29 CFR Part 531 continues to read as follows:

Authority: Sec. 3(m), 52 Stat. 1060; sec. 2, 75 Stat. 65; sec. 101, 80 Stat. 830; 29 U.S.C. 203 (m) and (t).

§ 531.8 [Removed]

14. Section 531.8 is removed.

PART 536—AREA OF PRODUCTION

15. The amended authority citation for 29 CFR Part 536 reads as follows:

Authority: Sec. 13(a)(17), 52 Stat. 1067, as amended, sec. 9, 75 Stat. 71, as amended, sec. 204(b), 80 Stat. 835; 29 U.S.C. 213(b)(14).

§ 536.1 [Removed and reserved]

16. Section 536.1 is removed and reserved.

§ 536.2 [Removed and reserved]

17. Section 536.2 is removed and reserved.

§ 536.3 [Amended]

18. Section 536.3 is amended in the section heading and paragraph (a) introductory text by removing “13(a)(17)” and adding in its place “13(b)(14)”.

§ 536.4 [Removed]

19. Section 536.4 is removed.

PART 547—REQUIREMENTS OF A BONA FIDE THRIFT OR SAVINGS PLAN

20. The authority citation for 29 CFR Part 547 continues to read as follows:

Authority: Sec. 7, 52 Stat. 1063, as amended; 29 U.S.C. 207.

21. Section 547.1 is amended by revising the OMB information collection approval at the end of the section to read as follows:

§ 547.1 Essential requirements for qualifications.

* * * * *

(Approved by the Office of Management and Budget under control number 1215-0119)

§ 547.3 [Removed]

22. Section 547.3 is removed.

PART 548—AUTHORIZATION OF ESTABLISHED BASIC RATES FOR COMPUTING OVERTIME PAY

23. The authority citation for 29 CFR Part 548 continues to read as follows:

Authority: Sec. 7, 52 Stat. 1063, as amended; 29 U.S.C. 207, unless otherwise noted.

§ 548.5 [Removed]

24. Section 548.5 is removed.

PART 549—REQUIREMENTS OF A “BONA FIDE PROFIT-SHARING PLAN OR TRUST”

25. The authority citation for 29 CFR Part 549 continues to read as follows:

Authority: Sec. 7, 52 Stat. 1063, as amended; 29 U.S.C. 207.

26. Section 549.1 is amended by revising the OMB information collection approval at the end of the section to read as follows:

§ 549.1 Essential requirements for qualifications.

* * * * *

(Approved by the Office of Management and Budget under control number 1215-0119)

§ 549.4 [Removed]

27. Section 594.4 is removed.

PART 550—DEFINING AND DELIMITING THE TERM “TALENT FEES”

28. The authority citation for 29 CFR Part 550 continues to read as follows:

Authority: Sec. 7, 52 Stat. 1063, as amended; 29 U.S.C. 207.

§ 550.3 [Removed]

29. Section 550.3 is removed.

PART 552—APPLICATION OF THE FAIR LABOR STANDARDS ACT TO DOMESTIC SERVICE

30. The authority citation for 29 CFR Part 552 continues to read as follows:

Authority: Secs. 13(a)(15) and 13(b)(21) of the Fair Labor Standards Act, as amended (29 U.S.C. 213(a)(15), (b)(21)), 88 Stat. 62; Sec. 29(b) of the Fair Labor Standards Amendments of 1974 (Pub. L. 93-259, 88 Stat. 76), unless otherwise noted.

§ 552.7 [Removed]

31. Section 552.7 is removed.

PART 570—CHILD LABOR REGULATIONS, ORDERS AND STATEMENTS OF INTERPRETATION

32. The authority citation for 29 CFR Part 552 continues to read as follows:

Authority: Secs. 3, 11, 12, 52 Stat. 1060, as amended, 1066, as amended, 1067, as amended; 29 U.S.C. 203, 211, 212.

§ 570.27 [Removed]

33. Section 570.27 is removed.

§ 570.38 [Removed]

34. Section 570.38 is removed.

Title 30

PART 28—FUSES FOR USE WITH DIRECT CURRENT IN PROVIDING SHORT-CIRCUIT PROTECTION FOR TRAINING CABLES IN COAL MINES

35. The authority citation for 30 CFR Part 28 continues to read as follows:

Authority: 30 U.S.C. 957, 956.

§ 28.31 [Amended]

36. Section 28.31 is amended in paragraph (b) by removing the words “the Superintendent of Documents, U.S. Government Printing Office, Washington, DC 20402” and adding, in their place, the words “Information Dissemination (Superintendent of Documents), P.O. Box 371954, Pittsburgh, PA 15250-7954; Telephone: 866-512-1800, http://bookstore.gpo.gov”.

§ 28.40 [Amended]

37. Section 28.40 is amended in paragraph (d) by removing the words “Underwriter's Laboratories, Inc., 161 Sixth Avenue, New York, NY 10013” and adding, in their place, the words “COMM 2000, 1414 Brook Drive, Downers Grove, IL 60515; Telephone: 888-853-3512 (toll free); http://ulstandardsinfonet.ul.com.”.

PART 48—TRAINING AND RETRAINING OF MINERS

38. The authority citation for 30 CFR Part 48 continues to read as follows:

Authority: 30 U.S.C. 811, 825.

§ 48.12 [Amended]

39. Section 48.12 is amended in paragraph (a) by removing the words “Metal and Non-metal Safety and Health” and adding, in their place, the words “Metal and Nonmetal Mine Safety and Health”; and by removing the words “4015 Wilson Boulevard, Arlington, Va. 22203” and adding, in their place, the words “1100 Wilson Boulevard, Arlington, VA 22209-3939”.

PART 50—NOTIFICATION, INVESTIGATION, REPORTS AND RECORDS OF ACCIDENTS, INJURIES, ILLNESSES, EMPLOYMENT, AND COAL PRODUCTION IN MINES

40. The authority citation for 30 CFR Part 50 continues to read as follows:

Authority: 29 U.S.C. 577a; 30 U.S.C. 951, 957, 961.

41. Section 50.1 is amended by revising the formulas to read as follows:

§ 50.1 Purpose and scope.

* * * * *

IR = (number of cases × 200,000) divided by hours of employee exposure.

* * * * *

SM = (sum of days × 200,000) divided by hours of employee exposure.

§ 50.20-1 [Amended]

42. Section 50.20-1 is amended by removing the words “Mine Health and Safety District or Subdistrict” and adding, in their place, the words “MSHA district”; and by removing the words “Denver Safety and Health Technology Center” and adding, in their place, the words “the MSHA Office of Injury and Employment Information at the above address.”.

PART 56—SAFETY AND HEALTH STANDARDS—SURFACE METAL AND NONMETAL MINES

43. The authority citation for 30 CFR Part 56 continues to read as follows:

Authority: 30 U.S.C. 811.

§ 56.1000 [Amended]

44. Section 56.1000 is amended by removing the words “Mine Safety and Health Administration and Metal and Nonmetal Mine Safety and Health District Office” and adding, in their place, the words “MSHA Metal and Nonmetal Mine Safety and Health district office”; and by removing the word “subdistrict” and adding, in its place, the word “district”.

§ 56.5001 [Amended]

45. Section 56.5001 is amended by removing the words “the Secretary-Treasurer, P.O. Box 1937, Cincinnati, OH 45201” and adding, in their place, the words “1330 Kemper Meadow Drive, Attn: Customer Service, Cincinnati, OH 45240; http://www.acgih.org”.

§ 56.5005 [Amended]

46. Section 56.5005 is amended in paragraph (b) by removing the words “1430 Broadway New York, NY 10018” and adding, in their place, the words “25 W. 43rd Street, 4th Floor, New York, NY 10036; http://www.ansi.org”.

§ 56.12047 [Amended]

47. Section 56.12047 is amended by removing the words “Superintendent of Documents, U.S. Government Printing Office, Washington, DC 20402” and adding, in their place, the words “National Institute of Science and Technology, 100 Bureau Drive, Stop 3460, Gaithersburg, MD 20899-3460. Telephone: 301-975-6478 (not a toll free number); http://ts.nist.gov/nvl; or from the Government Printing Office, Information Dissemination (Superintendent of Documents), P.O. Box 371954, Pittsburgh, PA 15250-7954; Telephone: 866-512-1800 (toll free) or 202-512-1800, http://bookstore.gpo.gov.”.

§ 56.13030 [Amended]

48. Section 56.13030 is amended in paragraph (d) by removing the words “345 East Forty-seventh Street, New York, NY 10017” and adding, in their place, the words “22 Law Drive, P.O. Box 2900, Fairfield, New Jersey 07007, Phone: 800-843-2763 (toll free); http://www.asme.org”.

PART 57—SAFETY AND HEALTH STANDARDS—UNDERGROUND METAL AND NONMETAL MINES

49. The authority citation for 30 CFR Part 57 continues to read as follows:

Authority: 30 U.S.C. 811.

§ 57.1000 [Amended]

50. Section 57.1000 is amended by removing the words “Mine Safety and Health Administration Metal and Nonmental Mine Safety and Health District Office” and adding, in their place, the words “MSHA Metal and Nonmetal Mine Safety and Health district office”; and by removing the word “subdistrict” and adding, in its place, the word “district”.

§ 57.5001 [Amended]

51. Section 57.5001 is amended in paragraph (a) by removing the words “the Secretary-Treasurer, P.O. Box 1937, Cincinnati, OH 45201” and adding, in their place, the words “1330 Kemper Meadow Drive, Attn: Customer Service, Cincinnati, OH 45240, http://www.acgih.org”.

§ 57.5005 [Amended]

52. Section 57.5005(b) is amended by removing the words “1430 Broadway New York, NY 10018” and adding, in their place, the words “25 W. 43rd Street, 4th Floor, New York, NY 10036; http://www.ansi.org”.

§ 57.5037 [Amended]

53. Section 57.5037 is amended in paragraphs (a) introductory text by removing the words “Metal and Nonmetal Mine Safety and Health Subdistrict Office of the Mine Safety and Health Administration” and adding, in their place, the words “MSHA Metal and Nonmetal Mine Safety and Health district office”; and by removing the words “1430 Broadway New York, NY 10018.” and adding, in their place, the words “25 W. 43rd Street, 4th Floor, New York, NY 10036; http://www.ansi.org.”.

§ 57.5040 [Amended]

54. Section 57.5040 is amended in paragraph (b)(4) by removing the words “1430 Broadway New York, NY 10018.” and adding, in their place, the words “25 W. 43rd Street, 4th Floor, New York, NY 10036; http://www.ansi.org.” and in paragraph (b)(6) by removing the words “Metal and Nonmetal Mine Safety and Health Subdistrict Office of the Mine Safety and Health Administration.” and adding, in their place, the words “MSHA Metal and Nonmetal Mine Safety and Health district office.”.

§ 57.5047 [Amended]

55. Section 57.5047 is amended in paragraph (b) by removing “1430 Broadway New York, NY 10018.” and adding, in their place, the words “25 W. 43rd Street, 4th Floor, New York, NY 10036; http://www.ansi.org.”.

§ 57.12047 [Amended]

56. Section 57.12047 is amended by removing the words “Superintendent of Documents, U.S. Government Printing Office, Washington, DC 20402” and adding, in their place, the words “National Institute of Science and Technology, 100 Bureau Drive, Stop 3460, Gaithersburg, MD 20899-3460. Telephone: 301-975-6478 (not a toll free number); http://ts.nist.gov/nvl; or from the Government Printing Office, Information Dissemination (Superintendent of Documents), P.O. Box 371954, Pittsburgh, PA 15250-7954; Telephone: 866-512-1800 (toll free) or 202-512-1800; http://bookstore.gpo.gov”.

§ 57.13030 [Amended]

57. Section 57.13030 is amended in paragraph (d) by removing the words “345 East Forty-seventh Street, New York, NY, 10017” and adding, in their place, the words “22 Law Drive, P.O. Box 2900, Fairfield, New Jersey 07007, Phone: 800-843-2763 (toll free); http://www.asme.org”.

§ 57.18028 [Amended]

58. Section 57.18028 is amended in paragraph (e) by removing the word “Subdistrict” and adding, in its place, the word “district”.

PART 70—MANDATORY HEALTH STANDARDS—UNDERGROUND COAL MINES

59. The authority citation for 30 CFR Part 70 continues to read as follows:

Authority: 30 U.S.C. 811 and 813(h).

§ 70.204 [Amended]

60. Section 70.204 is amended in paragraph (e) by removing the words “and subdistrict”.

§ 70.1900 [Amended]

61. Section 70.1900 is amended in paragraph (c) by removing the words “Coal Mine Health and Safety District and Subdistrict Office” and adding, in their place, the words “MSHA Coal Mine Safety and Health district office”; and by removing the words “the Secretary-Treasurer, American Conference of Governmental Industrial Hygienists, Post Office Box 1937, Cincinnati, OH 45202.” and adding, in their place, the words “American Conference of Governmental Industrial Hygienists, 330 Kemper Meadow Drive, Attn: Customer Service, Cincinnati, OH 45240; http://www.acgih.org.”.

PART 71—MANDATORY HEALTH STANDARDS—SURFACE COAL MINES AND SURFACE WORK AREAS OF UNDERGROUND COAL MINES

62. The authority citation for 30 CFR Part 71 continues to read as follows:

Authority: 30 U.S.C. 811, 951 and 957.

§ 71.204 [Amended]

63. Section 71.204 is amended in paragraph (e) by removing the words “Coal Mine Health and Safety District and Subdistrict Office.” and adding, in their place, the words “MSHA Coal Mine Safety and Health district office.”.

§ 71. 402 [Amended]

64-65. Section 71.402 is amended as follows:

A. In paragraph (b) remove the words “Coal Mine Health and Safety District and Subdistrict Office” and add, in their place, the words “MSHA Coal Mine Safety and Health district office”; remove the words “for $2.50 per copy”; and remove the words “1430 Broadway, New York, NY 10018, for $6 per copy.” and add, in their place, the words “25 W. 43rd Street, 4th Floor, New York, NY 10036; http://www.ansi.org.”; and

B. In paragraph (c) remove the words “of this § 71.402” and add, in their place, the words “of this section”.

§ 71.700 [Amended]

66. Section 71.700 is amended in paragraph (a) by removing the words “Coal Mine Health and Safety District and Subdistrict Office” and adding, in their place, the words “MSHA Coal Mine Safety and Health district office”; and by removing the words “the Secretary-Treasurer, American Conference of Governmental Industrial Hygienists, Post Office Box 1937, Cincinnati, OH 45202.” and adding, in their place, the words “American Conference of Governmental Industrial Hygienists, 1330 Kemper Meadow Drive, Attn: Customer Service, Cincinnati, OH 45240; http://www.acgih.org.”.

PART 72—HEALTH STANDARDS FOR COAL MINES

67. The authority citation for 30 CFR Part 72 continues to read as follows:

Authority: 30 U.S.C. 811, 813(h), 957, 961.

§ 72.710 [Amended]

68. Section 72.710 is amended by removing the words “1430 Broadway, New York, NY 10018” and adding, in their place, the words “25 W. 43rd Street, 4th Floor, New York, NY 10036; http://www.ansi.org”; by removing the words “Coal Mine Health and Safety district and subdistrict office” and adding, in their place, the words “MSHA Coal Mine Safety and Health district office”; and by removing the words “Office of Standards” and adding, in their place, the words “Office of Standards, Regulations, and Variances”.

PART 75—MANDATORY SAFETY STANDARDS—UNDERGROUND COAL MINES

69. The authority citation for 30 CFR Part 75 continues to read as follows:

Authority: 30 U.S.C. 811.

§ 75.220 [Amended]

70. Section 75.220 is amended by removing paragraph (f).

§ 75.301 [Amended]

71. Section 75.301 is amended as follows:

A. In the definition of Noncombustible structure or area, by removing the words “Coal Mine Health and Safety District and Subdistrict Office” and adding, in their place, the words “MSHA Coal Mine Safety and Health district office”.

B. In the definition of Noncombustible material, by removing the words “Office of Standards” and adding, in their place, the words “Office of Standards, Regulations, and Variances”; and by removing the words “1916 Race Street, Philadelphia, Pennsylvania 19103.” and adding, in their place, the words “100 Barr Harbor Drive, PO Box C700, West Conshohocken, PA 19428-2959; http://www.astm.org.”.

§ 75.322 [Amended]

72. Section 75.322 is amended by removing the words “Coal Mine Health and Safety District and Subdistrict Office” and adding, in their place, the words “MSHA Coal Mine Safety and Health district office”.

§ 75.333 [Amended]

73. Section 75.333 is amended by removing the words “Coal Mine Health and Safety District and Subdistrict Office” and adding, in their place, the words “MSHA Coal Mine Safety and Health district office”; removing the words “Office of Standards” and adding, in their place, the words “Office of Standards, Regulations, and Variances”; and by removing the words “1916 Race Street, Philadelphia, Pennsylvania 19103.” and adding, in their place, the words “100 Barr Harbor Drive, PO Box C700, West Conshohocken, PA 19428-2959; http://www.astm.org.” in the following places:

1. Paragraph (d)(1);

2. Paragraph (e)(1)(i);

3. Paragraph (e)(3); and,

4. Paragraph (f).

§ 75.335 [Amended]

74. Section 75.335 is amended by removing the words “Coal Mine Health and Safety District and Subdistrict Office” and adding, in their place, the words “MSHA Coal Mine Safety and Health district office”; removing the words “Office of Standards” and adding, in their place, the words “Office of Standards, Regulations, and Variances”; and by removing the words “1916 Race Street, Philadelphia, Pennsylvania 19103.” and adding, in their place, the words “100 Barr Harbor Drive, P.O. Box C700, West Conshohocken, PA, 19428-2959; http://www.astm.org.” in the following places:

a. Paragraph (a)(1)(iv); and,

b. Paragraph (a)(2).

§ 75.503-1 [Amended]

75. Section 75.504-1 is amended by removing the words “Coal Mine Safety District Office or Subdistrict Office of the Mine Safety and Health Administration.” and adding, in their place, the words “MSHA Coal Mine Safety and Health district office.”; and by removing the words “or Subdistrict”.

§ 75.506 [Amended]

76. Section 75.506 is amended in paragraph (b) by removing the words “Coal Mine Safety District and Subdistrict Offices of the Bureau of Mines.” and adding, in their place the words “MSHA Coal Mine Safety and Health district offices.”.

§ 75.818 [Amended]

77. Section 75.818 is amended in paragraph (b)(4) by removing the words “Coal Mine Health and Safety District and Subdistrict Office” and adding, in their place, the words “MSHA Coal Mine Safety and Health district office”; and by removing the words “Office of Standards” and adding, in their place, the words “Office of Standards, Regulations, and Variances”.

§ 75.1103-2 [Amended]

78. Section 75.1103-2 is amended in paragraph (b) by removing the words “Coal Mine Health and Safety District or Subdistrict Office of the Mine Safety and Health Administration” and adding, in their place, the words “MSHA Coal Mine Safety and Health district office”; and by removing the words “60 Batterymarch Street, Boston, MA 02110.” and adding, in their place, the words “11 Tracy Drive, Avon, MA 02322; Telephone: 800-344-3555 (toll free); http://www.nfpa.org.”.

§ 75.1107-17 [Amended]

79. Section 75.1107-17 is amended by removing the words “Coal Mine Health and Safety District or Subdistrict Office of the Mine Safety and Health Administration” and adding, in their place, the words “MSHA Coal Mine Safety and Health district office”; and by removing the words “60 Batterymarch Street, Boston, MA 02110.” and add, in their place, the words “11 Tracy Drive, Avon, MA 02322; Telephone: 800-344-3555 (toll free); http://www.nfpa.org.”.

§ 75.1204-1 [Amended]

80. Section 75.1204-1 is amended by removing the words “Coal Mine Safety” and adding, in their place, the words “Coal Mine Safety and Health”.

§ 75.1719-2 [Amended]

81. Section 75.1719 is amended in paragraph (c)(2) by removing the words “Coal Mine Health and Safety District and Subdistrict Office of MSHA” and add, in their place, the words “MSHA Coal Mine Safety and Health district office”; and by removing the words “345 East Forty-seventh Street, New York, N.Y. 10017.” and adding, in their place, the words “Publications Office, 10662 Los Vaqueros Circle, P.O. Box 3014 Los Alamitos, CA 90720-1264 Telephone: 800-272-6657 (toll free); http://www.ieee.org.”.

§ 75.1719-3 [Amended]

82. Section 75.1719-3 is amended in paragraph (d) by removing the words “National Bureau of Standards” and adding, in their place, the words “National Institute of Standards and Technology (Formerly the National Bureau of Standards)”.

§ 75.1730 [Amended]

83. Section 75.1730 is amended in paragraph (a) by removing the words “for $25”; removing the words “345 East Forty-seventh Street, New York, NY 10017” and adding, in their place, the words “22 Law Drive, P.O. Box 2900, Fairfield, New Jersey 07007, Phone: 800-843-2763 (toll free); http://www.asme.org”; and by removing the words “Coal Mine Health and Safety District and Subdistrict Office” and adding, in their place, the words “MSHA Coal Mine Safety and Health district office”.

§ 75.1900 [Amended]

84. Section 75.1900 is amended in the definition of Noncombustible material by removing the words “Coal Mine Health and Safety District and Subdistrict Office” and adding, in their place, the words “MSHA Coal Mine Safety and Health district office”; and by removing the words “1916 Race Street Philadelphia, PA 19103” and adding, in their place, the words “100 Barr Harbor Drive, P.O. Box C700, West Conshohocken, PA, 19428-2959, http://www.astm.org”.

PART 77—MANDATORY SAFETY STANDARDS, SURFACE COAL MINES AND SURFACE WORK AREAS OF UNDERGROUND COAL MINES

85. The authority citation for 30 CFR Part 77 continues to read as follows:

Authority: 30 U.S.C. 811.

§ 77.403a [Redesignated and amended]

86. Section 77.403a is redesignated as § 77.403-1 and amended as follows:

A. In paragraph (c)(5) by removing the words “Nothing in this § 77.403a” and adding, in their place, the words “Nothing in this section 77.403-1”;

B. In paragraph (d)(2)(ii) footnote, by removing the words “Paragraph (d) or § 77.403a” and adding, in their place, the words “Paragraph (d) of § 77.403-1”; and,

C. In paragraph (g) by removing “§ 77.403a” and adding, in its place “§ 77.403-1”.

§ 77.403b [Redesignated and amended]

87. Section § 77.403b is redesignated as § 77.403-2 and amended by removing the words “§ 77.403a” and adding, in their place, the words “§ 77.403-1”; by removing the words “Coal Mine Health and Safety District and Subdistrict Office” and adding, in their place, the words “Coal Mine Safety and Health district office”; and by removing the words “U.S. Government Printing Office, Washington, DC 20402” and adding, in their place, “Information Dissemination (Superintendent of Documents), P.O. Box 371954, Pittsburgh, PA 15250-7954; Telephone: 866-512-1800 (toll free) or 202-512-1800; http://bookstore.gpo.gov”.

§ 77.1000-1 [Amended]

88. Section 77.1000-1 is amended by removing the words “Coal Mine Health and Safety District of Subdistrict office for the District or Subdistrict” and adding, in their place the words “MSHA Coal Mine Safety and Health district office for the district”.

§ 77.1502 [Amended]

89. Section 77.1502 is amended by removing the words “Coal Mine Health and Safety District Manager or Subdistrict Manager” and adding, in their place, the words “MSHA Coal Mine Safety and Health District Manager”.

PART 90—MANDATORY HEALTH STANDARDS—COAL MINERS WHO HAVE EVIDENCE OF THE DEVELOPMENT OF PNEUMOCONIOSIS

90. The authority citation for 30 CFR Part 90 continues to read as follows:

Authority: 30 U.S.C. 811, 813(h).

§ 90.204 [Amended]

91. Section 90.204 is amended in paragraph (e) by removing the words “and subdistrict”.

Dated: March 14, 2006.
Veronica Vargas Stidvent,
Assistant Secretary for Policy, Department of Labor.

[FR Doc. 06-3041 Filed 3-31-06; 8:45 am]

BILLING CODE 4510-23-P